DEPARTMENT OF ENERGY

Federal Energy Regulatory Commission

[Docket No. RP00-429-002]

Kansas Pipeline Company; Notice of Revised Tariff Filing

September 12, 2000.

Take notice that on September 8, 2000, Kansas Pipeline Company (KPC) tendered for filing revised sheets, to be effective March 27, 2000. The revised tariff sheets; listed below, include language to indicate the expiration date for waiver of the price cap for short-term capacity release transactions. The revised tariff sheets are:

Sub Fifth Revised Sheet No. 15

Sub Fifth Revised Sheet No. 21

KPC States that copies of this filing have been served on all Kansas Pipeline Company customers and state commissions involved in this proceeding.

Any person desiring to protest this filing should file a protest with the Federal Energy Regulatory Commission, 888 First Street, NE., Washington, DC 20426 in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-23838 Filed 9-15-00; 8:45 am]

BILLING CODE 6717-01-M